FEDERAL RESERVE SYSTEM

12 CFR Part 217

[Regulation Q; Docket No. R-1505]

RIN 7100-AD-26

Risk-Based Capital Guidelines: Implementation of Capital Requirements for Global Systemically Important Bank Holding Companies

AGENCY: Board of Governors of the Federal Reserve System (Board).

ACTION: Proposed rule; extension of comment period.

SUMMARY: On December 18, 2014, the Board published in the Federal Register a proposal to implement risk-based capital surcharges for U.S.-based global systemically important banking organizations.

Due to the range and complexity of the issues addressed in the proposed rulemaking, the public comment period has been extended until April 3, 2015. This action will allow interested persons additional time to analyze the proposal and prepare their comments.

DATES: The comment period for the proposed rule published on December 18, 2014 (79 FR 75473) to implement risk-based capital surcharges for U.S.-based global systemically important banking organizations is extended from March 2, 2015 to April 3, 2015.

ADDRESSES: You may submit comments by any of the methods identified in the proposed rule.¹ Please submit your comments using only one method.

¹ See 79 FR 75473 (December 18, 2014).

FOR FURTHER INFORMATION CONTACT: Jordan Bleicher, Senior Supervisory Financial Analyst, (202) 973-6123, or Holly Kirkpatrick, Supervisory Financial Analyst, (202) 452-2796, Division of Banking Supervision and Regulation, or Christine Graham, Senior Attorney, (202) 452-3005, Legal Division.

SUPPLEMENTARY INFORMATION: On December 18, 2014, the Board published in the Federal Register a proposal to implement risk-based capital surcharges for U.S.-based global systemically important banking organizations.² The proposed rule stated that the public comment period would close on March 2, 2015.³

² See 79 FR 75473 (December 18, 2014).

³ Id.

The Board has received a comment letter requesting that the Board extend the comment period for the proposal.⁴ The commenter suggested that an extension of the comment period would facilitate more detailed comments about the implications of the proposal and its potential consequences.

⁴ See, e.g., Comment letter to the Board from The Clearing House (February 20, 2015).

Due to the range and complexity of the issues addressed in the proposed rulemaking, the public comment period has been extended until April 3, 2015. This action will allow interested persons additional time to analyze the proposal and prepare their comments.

By order of the Board of Governors of the Federal Reserve System, acting through the Secretary of the Board under delegated authority, February 26, 2015.
Robert deV. Frierson,
Secretary of the Board.

[FR Doc. 2015-04438 Filed 3-2-15; 8:45 am]

BILLING CODE P